DEPARTMENT OF DEFENSE

Department of the Air Force

Privacy Act of 1974; System of Records

AGENCY: Department of the Air Force, DoD.

ACTION: Notice to delete Systems of Records.

SUMMARY: The Department of the Air Force is deleting four systems of records notices in its existing inventory of record systems subject to the Privacy Act of 1974, (5 U.S.C. 552a), as amended.

DATES: This proposed action would be effective without further notice on July 29, 2002, unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 601-4043.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: June 21, 2002.
Patricia L. Toppings,
Alternate OSD Federal Register Liaison Officer, Department of Defense.

F044 AFSG B

System name:

Bioenvironmental Engineer Personnel Career Information System (June 11, 1997, 62 FR 31793).

Reason: Information is now maintained under the system of records F036 AF PC C, Military Personnel Records System. Therefore, this notice is obsolete.

F044 AF SG P

System name:

Nursing Skill Inventory (June 11, 1997, 62 FR 31793).

Reason: Records no longer maintained because the requirement was cancelled.

F065 AF SG A

System name:

Control Logs (June 11, 1997, 62 FR 31793).

Reason: Records no longer exist because requirement was cancelled.

F031 497IG C

System name:

Security File for Foreign Intelligence Collection (June 11, 1997, 62 FR 31793).

Reason: Records no longer exist; organization deactivated.

[FR Doc. 02-16187 Filed 6-26-02; 8:45 am]

BILLING CODE 5001-08-P